FEDERAL MARITIME COMMISSION

[Docket No. 22-16]

Goforth & Marti dba GM Business Interiors, Complainant v. Hsin Silk Road Shipping Limited; Notice of Filing of Complaint and Assignment

Served: July 11, 2022.

Notice is given that a complaint has been filed with the Federal Maritime Commission (Commission) by GOFORTH & MARTI dba GM BUSINESS INTERIORS, hereinafter “Complainant”, against HSIN SILK ROAD SHIPPING LIMITED, hereinafter “Respondent”. Complainant states that it is a California corporation. Complainant states that Respondent is an entity located in and organized and existing under the laws of Hong Kong, and that it is a non-vessel-common-carrier licensed by the Federal Maritime Commission.

Complainant alleges that Respondent violated 46 U.S.C. 41102(c) and 46 CFR 545.4 and 545.5 with regard to assessing fees against containers. The full text of the complaint can be found in the Commission's Electronic Reading Room at https://www2.fmc.gov/readingroom/proceeding/22-16/. This proceeding has been assigned to Office of Administrative Law Judges. The initial decision of the presiding office in this proceeding shall be issued by July 12, 2023, and the final decision of the Commission shall be issued by January 26, 2024.

William Cody,
Secretary.

[FR Doc. 2022-15030 Filed 7-13-22; 8:45 am]

BILLING CODE 6730-02-P